FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
02-NOV-09 | 20100028 | G | Compuware Corporation.
|  | G | Gomez, Inc.
|  | G | Gomez, Inc.
03-NOV-09 | 20100047 | G | J&F Participacoes S.A.
|  | G | Controlling Holding.
|  | G | Controlling Holding.
| 20100052 | G | H.I.G. Bayside Debt and LBO Fund II, L.P.
|  | G | Dr. Rodolfo Gari and Mrs. Laurie Gari.
|  | G | Business IT Solutions of Tampa, Inc.
|  | G | Medical Billing Solutions, LLC.
|  | G | Sarasota Anesthesia Services, LLC.
|  | G | Surgery Partners of Coral Gables, LLC.
|  | G | Armenia Surgery Center, Inc.
|  | G | APS of Merritt Island, LLC.
|  | G | APS of Bradenton, LLC.
|  | G | Anesthesia Professional Services, Inc.
|  | G | Anesthesia Management Services, LLC.
|  | G | Surgery Partners of Lake Mary, LLC.
|  | G | Weschase Anesthesiology Professional Services, Inc.
|  | G | Tampa Pain Relief Center, Inc.
|  | G | Surgery Partners, LLC.
|  | G | Surgery Partners of Lake Worth, LLC.
|  | G | Surgery Partners of Merritt Island, LLC.
|  | G | Surgery Partners of Millenia, LLC.
|  | G | Surgery Partners of New Tampa, LLC.
|  | G | Surgery Partners of Park Place, LLC.
|  | G | Surgery Partners of Sarasota, LLC.
|  | G | Surgery Partners of Westchase, LLC.
|  | G | Surgery Partners of West Kendall, L.L.C.
| 20100057 | G | Berkshire Hathaway Inc.
|  | G | Capmark Financial Group Inc.
|  | G | Capmark Capital Inc.
|  | G | Capmark Finance Inc.
04-NOV-09 | 20100017 | G | Rohm Co., Ltd.
|  | G | Kionix, Inc.
|  | G | Kionix, Inc.
| 20100053 | G | Occidental Petroleum Corporation.
|  | G | Citigroup Inc.
|  | G | Phibro, LLC.
05-NOV-09 | 20100058 | G | Leucadia National Corporation.
|  | G | Capmark Financial Group Inc.
|  | G | Capmark Capital Inc.
|  | G | Capmark Finance Inc.
06-NOV-09 | 20100078 | G | Kok Thay Lim.
|  | G | Empire Resorts, Inc.
|  | G | Empire Resorts, Inc.
| 20100081 | G | Carlyle Partners V L.P.
|  | G | TA IX L.P.
|  | G | OpenLink Financial, Inc.
| 20100082 | G | Dollar Financial Corp.
|  | G | The CVRF Trust.
|  | G | Military Financial Services, LLC.
09-NOV-09 | 20090760 | G | CA, Inc.
|  | G | NetQoS, Inc.
|  | G | NetQoS, Inc.
| 20100040 | G | Riverside Capital Appreciation Fund V, L.P.
|  | G | Precision Wire Components, LLC.
|  | G | Precision Wire Components, LLC.
| 20100050 | G | FPL Group Limited.
|  | G | Babcock & Brown Limited (Liquidators Appointed).
|  | G | Babcock & Brown Limited (Liquidators Appointed).
| 20100054 | G | Ciena Corporation.
|  | G | Nortel Networks Corporation.
|  | G | Nortel Networks Corporation.
| 20100064 | G | GSI Commerce, Inc.
|  | G | Retail Convergence, Inc.
|  | G | Retail Convergence, Inc.
| 20100071 | G | Integrated Solutions, LLC.
|  | G | Coleman Technologies, Inc.
|  | G | Coleman Technologies, Inc.
| 20100073 | G | Invesco Ltd.
|  | G | Morgan Stanley.
|  | G | Van Kampen Investments, Inc.
| 20100074 | G | Morgan Stanley.
|  | G | Invesco Ltd.
|  | G | Invesco Ltd.
| 20100080 | G | Genstar Capital Partners V, L.P.
|  | G | FHME Holdings, Inc.
|  | G | Florida Home Medical Equipment, Inc.
10-NOV-09 | 20090629 | G | Sierra Holdings Corp.
|  | G | Nortel Networks Corporation.
|  | G | Nortel Networks Limited.
|  | G | Nortel Government Solutions Incorporated.
|  | G | DiamondWare Ltd.
|  | G | NNC.
|  | G | Nortel Networks, Inc.
| 20100059 | G | Agropur Cooperative.
|  | G | Sjerp W. Ysselstein.
|  | G | Green Meadows Food, LLC.
| 20100083 | G | Tellabs, Inc.
|  | G | WiChorus, Inc.
|  | G | WiChorus, Inc.
| 20100087 | G | Steiner Leisure Limited.
|  | G | Starwood Hotels and Resorts Worldwide, Inc.
|  | G | Bliss World Holdings, Inc.
|  | G | Bliss World LLC.
12-NOV-09 | 20100072 | G | EverBank Financial Corp.
|  | G | Tygris Commercial Finance Group, Inc.
|  | G | Tygris Commercial Finance Group, Inc.
| 20100075 | G | New Mountain Partners III, L.P.
|  | G | EverBank Financial Corp.
|  | G | EverBank Financial Corp.
| 20100076 | G | TPG Partners VI, L.P.
|  | G | EverBank Financial Corp.
|  | G | EverBank Financial Corp.
16-NOV-09 | 20100101 | G | Markit Group Holdings Limited.
|  | G | Fidelity National Information Services, Inc.
|  | G | Clear Par, LLC.
|  | G | Fidelity Information Services, Inc.
| 20100105 | G | Groupe Aeroplan Inc.
|  | G | The Marilyn Carlson Nelson 1998 GST Family Trust.
|  | G | Carlson Marketing Worlwide, Inc.
| 20100106 | G | Groupe Aeroplan Inc.
|  | G | The Barbara Carlson Gage 1998 GST Family Trust.
|  | G | Carlson Marketing Worlwide, Inc.
| 20100110 | G | GS Capital Partners VI, L.P. G Compass Investors Inc.
|  | G | Compass Investors Inc.
| 20100112 | G | GS Capital Partners VI Offshore, L.P.
|  | G | Compass Investors Inc.
|  | G | Compass Investors Inc.
| 20100115 | G | Adecco S.A.
|  | G | MPS Group, Inc.
|  | G | MPS Group, Inc.
| 20100116 | G | Powdr Corp.
|  | G | Intrawest Cayman L.P.
|  | G | Copper Mountain Real Estate, Inc.
|  | G | Wheeler Junction Electric Company.
|  | G | CMH Corporation.
|  | G | Copper Mountain Inc.
17-NOV-09 | 20100044 | G | Becton Dickinson and Company.
|  | G | HandyLab, Inc.
|  | G | HandyLab, Inc.
| 20100086 | G | Cisco Systems, Inc.
|  | G | ScanSafe, Inc.
|  | G | ScanSafe, Inc.
| 20100107 | G | United Refining Energy Corp.
|  | G | Chaparral Energy, Inc.
|  | G | Chaparral Energy, Inc.
| 20100111 | G | H.I.G. Bayside Debt& LBO Fund Il, L.P.
|  | G | Allion Healthcare, Inc.
|  | G | Allion Healthcare, Inc.
19-NOV-09 | 20100048 | G | Abbott Laboratories.
|  | G | Solvay SA.
|  | G | Sodufa BV.
|  | G | Solvay Pharmaceuticals Marketing & Licensing AG.
| 20100096 | G | MasTec, Inc.
|  | G | Michael Daniel Murphy.
|  | G | Precision Transport Company, LLC.
|  | G | Precision Pipeline, LLC.
| 20100097 | G | MasTec, Inc.
|  | G | Steven R. Rooney.
|  | G | Precision Pipeline, LLC.
|  | G | Precision Transport Company LLC.
| 20100125 | G | Nippon Oil Corporation.
|  | G | Nippon Mining Holdings, Inc.
|  | G | Nippon Mining Holdings, Inc.
| 20100126 | G | Nippon Mining Holdings, Inc.
|  | G | Nippon Oil Corporation.
|  | G | Nippon Oil Corporation.
20-NOV-09 | 20100068 | G | RehabCare Group, Inc.
|  | G | TA IX L.P.
|  | G | Triumph HealthCare Holdings, Inc.
| 20100069 | G | TA IX L.P.
|  | G | RehabCare Group, Inc.
|  | G | RehabCare Group, Inc.
| 20100084 | G | MEMC Electronic Materials, Inc.
|  | G | Sun Edison LLC.
|  | G | Sun Edison LLC.
| 20100122 | G | United Health Group Incorporated.
|  | G | CareMedic Holdings, Inc.
|  | G | CareMedic Holdings, Inc.
| 20100133 | G | Heilman & Friedman Capital Partners Vt, L.P.
|  | G | Thoma Cressey Fund VII, L.P.
|  | G | Datatel Holdings, Inc.
23-NOV-09 | 20090265 | G | Panasonic Corporation.
|  | G | SANYO Electric Co., Ltd.
|  | G | SANYO Electric Co., Ltd.
| 20100135 | G | GTCR Fund IX/A, L.P.
|  | G | BIT Systems, Inc.
|  | G | BIT Systems, Inc.
24-NOV-09 | 20100061 | G | Advocate Health Care Network.
|  | G | BroMenn Healthcare System.
|  | G | BroMenn Healthcare Hospitals.
|  | G | BroMenn Physician Hospital Organization.
|  | G | BroMenn Physicians Management Corporation.
|  | G | BroMenn Foundation.
| 20100062 | G | Berry Plastics Group, Inc.
|  | G | JPMorgan Chase & Co.
|  | G | Pliant Corporation.
| 20100123 | G | Dassault Systemes.
|  | G | International Business Machines Corporation.
|  | G | International Business Machines Corporation.
25-NOV-09 | 20100088 | G | The Southern Company.
|  | G | Broadway Generating Company, LLC.
|  | G | West Georgia Generating Company, LLC.
| 20100089 | G | Broadway Generating Company, LLC.
|  | G | Southern Power Company.
|  | G | DeSoto County Generating Company, LLC.
| 20100117 | G | Ameriprise Financial, Inc.
|  | G | Bank of America Corporation.
|  | G | Bank of America, N.A.
|  | G | Columbia Wanger Asset Management, L.P.
|  | G | WAM Acquisition GP, Inc.
27-NOV-09 | 20100154 | G | ACS Actividades de Construccion y Servicios, S.A.
|  | G | William R. Pulice.
|  | G | Pulice Construction, Inc.

For Further Information Contact: Sandra M. Peay, Contact Representative or Renee Hallman, Contact Representative, Federal Trade Commission, Premerger Notification Office, Bureau of Competition, Room H-303, Washington, DC 20580, (202) 326-3100.

By Direction of the Commission.
Donald S. Clark,
Secretary.

[FR Doc. E9-31208 Filed 1-6-10; 8:45 am]

BILLING CODE 6750-01-M